DEPARTMENT OF TRANSPORTATION

Federal Aviation Administration

Notice of Intent To Rule on Application 04-03-C-00-CKB To Impose and Use the Revenue From a Passenger Facility Charge (PFC) at Harrison-Marion Regional Airport, Clarksburg, WV

AGENCY: Federal Aviation Administration (FAA), DOT.

ACTION: Notice of intent to rule on application.

SUMMARY: The FAA proposes to rule and invites public comment on the application to impose and use the revenue from a PFC at Harrison-Marion Regional Airport under the provisions of the 49 U.S.C. 40117 and part 158 of the Federal Aviation Regulations (14 CFR part 158).

DATES: Comments must be received on or before February 5, 2004.

ADDRESSES: Comments on this application may be mailed or delivered in triplicate to the FAA at the following address: Beckley Airports District Office, 176 Airport Circle, Room 101, Beaver, WV 25813.

In addition, one copy of any comments submitted to the FAA must be mailed or delivered to Jim Griffith, Airport Manager, of the Harrison-Marion Regional Airport at the following address: 2000 Aviation Way, Bridgeport WV 26330.

Air carriers and foreign air carriers may submit copies of written comments previously provided to the Benedum Airport Authority under section 158.23 of part 158.

FOR FURTHER INFORMATION CONTACT: Mr. Matthew DiGiulian, Civil Engineer, Beckley Airports District Office, 176 Airport Circle, Room 101, Beaver, WV 25813, (304) 252-6216. The application may be reviewed in person at this same location.

SUPPLEMENTARY INFORMATION: The FAA proposed to rule and invites public comment on the application to impose and use the revenue from a PFC at Harrison-Marion Regional Airport under the provisions of the 49 U.S.C. 40117 and part 158 of the Federal Aviation Regulations (14 CFR part 158).

On December 17, 2003, the FAA determined that the application to impose and use the revenue from a PFC submitted by Benedum Airport Authority was substantially complete within the requirements of section 158.25 of part 158. The FAA will approve or disapprove the application, in whole or in part, no later than March 31, 2004.

The following is a brief overview of the application.

Proposed charge effective date: May 1, 2004.

Proposed charge expiration date: May 1, 2054.

Level of the proposed PFC: $4.50.

Total estimated PFC revenue: $2,920,641.

Brief description of proposed project(s):

—Terminal Modifications

—Construct De-Icing Containment Facility

—Construct Run-Up Pad

—Install Segmented Circle/Beacon

—Runway Extension (Land Acquisition)

—Runway Extension (Construction)

Class or classes or air carriers which the public agency has requested not be required to collect PFCs: None.

Any person may inspect the application in person at the FAA office listed above under FOR FURTHER INFORMATION CONTACT and at the FAA regional Airports office located at: AEA-610, FAA Eastern Region, 1 Aviation Plaza, Jamaica, NY 11434-4809.

In addition, any person may, upon request, inspect the application, notice and other documents germane to the application in person at the Benedum Airport Authority.

Issued in Beckley, West Virginia, on December 17, 2003.
Larry F. Clark,
Manager, Beckley Airports Field Office, Eastern Region.

[FR Doc. 04-244 Filed 1-5-04; 8:45 am]

BILLING CODE 4910-13-M